INTERNATIONAL TRADE COMMISSION

[Investigation No. 731-TA-1143 (Final)]

Small Diameter Graphite Electrodes From China

Determination

On the basis of the record ¹ developed in the subject investigation, the United States International Trade Commission (Commission) determines, pursuant to section 735(b) of the Tariff Act of 1930 (19 U.S.C. 1673d(b)) (the Act), that an industry in the United States is materially injured by reason of imports from China of small diameter graphite electrodes, provided for in subheading 8545.11.00 of the Harmonized Tariff Schedule of the United States, that have been found by the Department of Commerce (Commerce) to be sold in the United States at less than fair value (LTFV).²

¹ The record is defined in section 207.2(f) of the Commission's Rules of Practice and Procedure (19 CFR 207.2(f)).

² The Commission also finds that imports subject to Commerce's affirmative critical circumstances determination are not likely to undermine seriously the remedial effect of the antidumping duty order on China.

Background

The Commission instituted this investigation effective January 17, 2008, following receipt of a petition filed with the Commission and Commerce by SGL Carbon LLC, Charlotte, NC, and Superior Graphite Co., Chicago, IL. The final phase of the investigation was scheduled by the Commission following notification of a preliminary determination by Commerce that imports of small diameter graphite electrodes from China were being sold at LTFV within the meaning of section 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register of September 4, 2008 (73 FR 51647). The hearing was held in Washington, DC, on January 6, 2009, and all persons who requested the opportunity were permitted to appear in person or by counsel.

The Commission transmitted its determination in this investigation to the Secretary of Commerce on February 19, 2009. The views of the Commission are contained in USITC Publication 4062 (February 2009), entitled Small Diameter Graphite Electrodes from China: Investigation No. 731-TA-1143 (Final).

Issued: February 19, 2009.
By order of the Commission.
Marilyn R. Abbott,
Secretary to the Commission.

[FR Doc. E9-3963 Filed 2-24-09; 8:45 am]

BILLING CODE 7020-02-P